POSTAL SERVICE

Market Test of Experimental Product: Global eCommerce Marketplace (GeM) Merchant Solution

AGENCY: Postal Service™.

ACTION: Notice.

SUMMARY: The Postal Service gives notice of a market test of an experimental product in accordance with statutory requirements.

DATES: March 24, 2016.

FOR FURTHER INFORMATION CONTACT: Kyle Coppin, 202-268-2368.

SUPPLEMENTARY INFORMATION: The United States Postal Service® hereby gives notice pursuant to 39 U.S.C. 3641(c)(1) that it will begin a market test of its Global eCommerce Marketplace (GeM) Merchant Solution experimental product on or after April 30, 2016. The Postal Service has filed with the Postal Regulatory Commission a notice setting out the basis for the Postal Service's determination that the market test is covered by 39 U.S.C. 3641 and describing the nature and scope of the market test. Documents are available at www.prc.gov, Docket No. MT2016-1.

Stanley F. Mires,
Attorney, Legal Policy & Legislative Advice.

[FR Doc. 2016-06623 Filed 3-23-16; 8:45 am]

BILLING CODE 7710-12-P